DEPARTMENT OF TRANSPORTATION

Surface Transportation Board

[Docket No. FD 35892]

Massachusetts Department of Transportation—Acquisition Exemption—Certain Assets of CSX Transportation, Inc.

The Massachusetts Department of Transportation (MassDOT), a noncarrier, has filed a verified notice of exemption under 49 CFR 1150.31 to acquire from CSX Transportation, Inc. (CSXT) certain railroad assets and associated right-of-way known generally as the Framingham Secondary, extending from milepost QBF 0.0 at Mansfield, Mass., to milepost QBF 21.2 at Framingham, Mass. (near CP-21), a distance of approximately 21.2 route miles (the Line).

According to MassDOT, the acquisition of the Line is intended to facilitate commuter service by MassDOT's designee, the Massachusetts Bay Transportation Authority (MBTA). MassDOT states that, in the interest of facilitating the MBTA-provided commuter rail service, it will delegate maintenance and dispatching of all train activity on the Line to MBTA.

MassDOT states that, pursuant to a “Definitive Agreement,” MassDOT will obtain the right to purchase CSXT's right, title and interest in the right-of-way, trackage, and other physical assets associated with the Line, subject to CSXT's retained exclusive, irrevocable, perpetual, assignable, divisible, licensable, and transferable freight railroad operating easement. MassDOT also states that it will not acquire the right, nor will it have the ability, to provide freight common carrier service over the Line.¹ According to MassDOT, the agreements governing the subject asset sale and post-transaction railroad operations preclude MassDOT from interfering materially with the provision of railroad common carrier service over the Line. MassDOT, however, will be entitled in the future to provide (itself, or through its designated contractor, MBTA) to provide commuter rail service over the Line. MassDOT states that the proposed transaction does not involve any provision or agreement that would limit future interchange with a third-party connecting carrier.

¹ A motion to dismiss the notice of exemption on grounds that the transaction does not require authorization from the Board was concurrently filed with this notice of exemption. The motion to dismiss is addressed in a separate Board decision.

MassDOT certifies that, because it will conduct no freight operations on the line segment being acquired, its revenues from freight operations will not result in the creation of a Class I or Class II carrier.

MassDOT states that it anticipates consummating the transaction on or about March 20, 2015, subject to a Board decision on the concurrently filed motion to dismiss. The earliest this transaction may be consummated is January 18, 2015, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than January 9, 2015 (at least seven days before the exemption becomes effective).

An original and ten copies of all pleadings, referring to Docket No. FD 35892, must be filed with the Surface Transportation Board, 395 E Street SW., Washington, DC 20423-0001. In addition, a copy of each pleading must be served on Robert A. Wimbish, Fletcher & Sippel LLC, 29 North Wacker Drive, Suite 920, Chicago, IL 60606-2832.

Board decisions and notices are available on our Web site at www.stb.dot.gov.

Decided: December 22, 2014.
By the Board, Joseph H. Dettmar, Acting Director, Office of Proceedings.
Brendetta S. Jones,
Clearance Clerk.

[FR Doc. 2014-30503 Filed 12-31-14; 8:45 am]

BILLING CODE 4915-01-P